DEPARTMENT OF THE INTERIOR

Fish and Wildlife Service

Information Collection Submitted to the Office of Management and Budget (OMB) for Approval Under the Paperwork Reduction Act; National Survey of Fishing, Hunting, and Wildlife-Associated Recreation (FHWAR)

AGENCY: Fish and Wildlife Service, Interior.

ACTION: Notice; request for comments.

SUMMARY: We (Fish and Wildlife Service) have submitted the collection of information described below to OMB for approval under the provisions of the Paperwork Reduction Act of 1995. The information collected for the National Survey of Fishing, Hunting, and Wildlife-Associated Recreation is needed to assist Federal and State agencies in administering the Sport Fish and Wildlife Restoration grant programs. The 2006 FHWAR will provide up-to-date information on the uses and demands for wildlife-related recreation resources, trends in uses of those resources, and a basis for developing and evaluating programs and projects to meet existing and future needs. We have conducted this survey every 5 years since 1955.

DATES: You must submit comments on or before June 23, 2005.

ADDRESSES: Send your comments and suggestions on this information collection reinstatement to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirements, explanatory information, or related materials, contact Hope Grey at the addresses above or by phone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). Previously, we had approval from OMB to collect information on the 2001 FHWAR Survey under OMB control number 1018-0088. This approval expired on September 30, 2003. We have submitted a request to OMB to reinstate approval for the 2006 FHWAR information collection. We are requesting a 3-year term of approval for this information collection. Federal agencies may not conduct or sponsor and a person is not required to respond to a collection of information unless it displays a currently valid OMB control number. OMB has up to 60 days to approve or disapprove our information collection request, but may respond after 30 days. Therefore, to ensure that your comments receive consideration, send all comments and suggestions to OMB by the date listed in the DATES section.

On November 26, 2004, we published in the Federal Register (69 FR 68966) a notice of our intent to request information collection authority from OMB. In that notice, we solicited public comments for 60 days, ending on January 25, 2005. We received comments from only one individual regarding this notice. The commenter expressed an objection to using taxpayers' money to collect information on hunting (which the commenter opposes) and to the survey being conducted every 5 years. The commenter recommended that groups like the Friends of Animals, Fund for Animals, and Humane Society be involved in collecting information. We note the concerns raised by this individual. However, we believe the FHWAR information collection provides an important means of measuring the extent of wildlife-related recreation and will be of great benefit to Federal and State agencies responsible for maintaining and enhancing fish and wildlife resources in the United States. The FHWAR collects information on nonconsumptive activities (observing, feeding, and photographing wildlife) as well as on consumptive activities (hunting and fishing). The survey, conducted only every 5 years, is paid for by grants from multistate conservation grant programs authorized by Public Law 106-408 (sections 113 and 122). Money for the programs comes from Federal excise tax and import duties on hunting, shooting, boating, and angling equipment and from a tax on motorboat and small engine fuel—not from general tax revenues. The Census Bureau was selected to collect the information for the survey because of its expertise, excellent response rates, reliable methodology, and 39 years of experience collecting information for the FHWAR.

We collect the information in conjunction with carrying out our responsibilities under the Federal Aid in Sport Fish Restoration Act (16 U.S.C. 777-777M), commonly referred to as the Dingell-Johnson Act, and the Federal Aid in Wildlife Restoration Act (16 U.S.C. 669-669i), commonly referred to as the Pitman-Robertson Act. Under these acts, as amended, we provide approximately $500 million in grants annually to States for projects that support sport fish and wildlife management and restoration, including the improvement of fish and wildlife habitats, fishing and boating access, fish stocking, and hunting and fishing opportunities. We also provide grants for aquatic education and hunter education, maintenance of completed projects, and research into problems affecting fish and wildlife resources. These projects help to ensure that the American people have adequate opportunities for fish and wildlife recreation.

The 2006 FHWAR will be the 11th conducted since 1955. We sponsor the survey at the States' request, which is made through the International Association of Fish and Wildlife Agencies. The Census Bureau collects the information using computer-assisted telephone or in-person interviews. A sample of sportspersons and wildlife watchers will be selected from a household screen. Sample persons will be asked about their participation and expenditures. Three detailed interviews will be conducted during the survey year. The 2006 FHWAR will be similar in scope to past surveys. It will generate information identified as priority data needed by Federal and State agencies responsible for administering the Sport Fish and Wildlife Restoration grant programs. Accordingly, the 2006 FHWAR will produce a comprehensive database of fish and wildlife-related recreation activities and expenditures. It will include the number of persons participating in different types of activities such as freshwater, saltwater, and Great Lakes fishing, and big game, small game, migratory bird, and other animal hunting. Wildlife-watching activities include wildlife observation, feeding, and photographing around the home and on trips away from home. Information is collected on days of participation, species of animals sought, and how much money was spent on trips and for equipment. Information on the characteristics of participants includes age, income, sex, education, race, and residency. The survey data has State level reliability. Federal and State agencies use information from the survey to formulate management and policy decisions related to fish and wildlife restoration and management. Participation patterns and trend information assist in identifying present and future needs and demands.

The information is used for planning the acquisition, development, and enhancement of resources for the benefit of wildlife-related recreation. Land managing agencies use the data on expenditures, economic evaluation, and participation to assess the value of wildlife-related recreational uses of natural resources. States use expenditure information to estimate the economic impact of wildlife-related recreation expenditures on their economies and to support the dedication of tax revenues for fish and wildlife restoration programs. The information collected on resident saltwater fishing assists coastal States in determining the proper ratio for allocating funds between freshwater and saltwater projects as required by the Federal Aid in Sport Fish Restoration Act, as amended. The information is not readily available elsewhere because few States have saltwater licenses or conduct their own surveys. If the 2006 FHWAR data were not available, it would impair the ability of those States to meet their obligations under the Act.

Title: National Survey of Fishing, Hunting, and Wildlife-Associated Recreation.

OMB Control Number: 1018-0088.

Form Number: None.

Frequency of Collection: Household screen interviews and the first detailed sportspersons and wildlife-watchers interviews will be conducted April-June 2006. The second detailed interviews will be conducted September-October 2006. The third and last detailed interviews will be conducted January-March 2007.

Description of Respondents: Individuals.

Total Annual Responses: 95,000 respondents.

Total Annual Burden Hours: 32,254 hours.

The projected number of respondents and the estimated burden for the 2006 FHWAR are:

| Estimated number of household responses | Average time per household (minutes) | Estimated number of participant responses | Average respondent time (minutes) | Total burden (hours)
Screen | * 76,000 | 7 |  |  | 8,867
Screen Reinterview ** | 3,800 | 5 |  |  | 317
Hunting & Fishing:
1st interview |  |  | 12,000 | 15 | 3,000
2nd interview |  |  | 24,000 | 10 | 4,000
3rd interview |  |  | 36,000 | 15 | 9,000
reinterview |  |  | 2,000 | 5 | 167
Wildlife Watching:
1st interview |  |  | 7,200 | 11 | 1,320
2nd interview |  |  | 12,000 | 11 | 2,200
3rd interview |  |  | 18,000 | 11 | 3,300
reinterview |  |  | 1000 | 5 | 83
Total | 79,800 | 6.9 | 112,200 | 12.3 | 32,254
* The estimated number of respondents reached from a sample of households will be 76,000. About one-half (38,000) of those respondents will sample in and receive a detail interview. An additional 50 percent of those households where one person is sampled (19,000) will have a second person screened in for interviews. Therefore, the total number of respondents is estimated to be 95,000 (76,000 + 19,000) in the 2006 FHWAR.
** Of the survey respondents, 5 percent from the CAPI screener workload and 6 percent from the CAPI third interview sportspersons and wildlife-watchers workloads are reinterviewed by another Census interviewer using a subset of the regular questionnaire. These reinterview responses are compared to the responses of the full interview as a quality control measure.

The total number of respondents can be calculated by adding up the household and participant responses and subtracting the reinterviews and the third interviews. There is some wave 1 and wave 2 overlap.

We expect the burden to be about 15 minutes for the sportsmen and 11 minutes for the wildlife-watching participants. We base the estimate for interview length on the 2001 survey and experience with similar surveys. The combined total estimated hours of respondent burden is 32,254.

We invite your comments on (1) whether or not the collection of information is necessary for the proper performance of the functions of the agency, including whether or not the information will have practical utility; (2) the accuracy of the agency's estimate of the burden of the collection information; (3) ways to enhance the quality, utility, and clarity of the information to be collected; and (4) ways to minimize the burden of the collection of information on respondents.

Dated: April 1, 2005.
Hope Grey,
Information Collection Clearance Officer, Fish and Wildlife Service.

[FR Doc. 05-10311 Filed 5-23-05; 8:45 am]

BILLING CODE 4310-55-P